DEPARTMENT OF THE INTERIOR

Bureau of Ocean Energy Management

[Docket ID: BOEM-2017-0016]; [OMB Control Number 1010-0081]

Agency Information Collection Activities: Operations in the Outer Continental Shelf for Minerals Other Than Oil, Gas, and Sulphur MMAA104000

ACTION: Notice.

SUMMARY: To comply with the Paperwork Reduction Act of 1995 (PRA), the Bureau of Ocean Energy Management (BOEM) is notifying the public that we have submitted an information collection request (ICR) to the Office of Management and Budget (OMB) for review and approval. The ICR pertains to the paperwork requirements in the regulations under 30 CFR part 582, Operations in the Outer Continental Shelf for Minerals Other than Oil, Gas, and Sulphur. This notice provides the public a second opportunity to comment on the paperwork burden of this collection.

DATES: Submit written comments by July 24, 2017.

ADDRESSES: Please send your comments on this ICR to the Desk Officer for the Department of the Interior at OMB-OIRA at (202) 395-5806 (fax) or OIRA_submission@omb.eop.gov (email). Please provide a copy of your comments to the BOEM Information Collection Clearance Officer, Anna Atkinson, Bureau of Ocean Energy Management, 45600 Woodland Road, VAM-DIR, Sterling, Virginia 20166 (mail); or anna.atkinson@boem.gov (email). Please reference ICR 1010-0081 in your comment and include your name and return address.

FOR FURTHER INFORMATION CONTACT: Anna Atkinson, Office of Policy, Regulations, and Analysis at anna.atkinson@boem.gov (email) or (703) 787-1025. You may review the ICR online at http://www.reginfo.gov. Follow the instructions to review Department of the Interior collections under review by OMB.

SUPPLEMENTARY INFORMATION:

OMB Control Number: 1010-0081.

Title: 30 CFR 582, Operations in the Outer Continental Shelf for Minerals Other than Oil, Gas, and Sulphur.

Abstract: The Outer Continental Shelf Lands Act (43 U.S.C. 1334 and 43 U.S.C. 1337(k)(1)) authorizes the Secretary of the Interior to issue regulations to grant to qualified persons who offer the highest cash bonus on a basis of competitive bidding, leases of any mineral other than oil, gas, and sulphur in any area of the Outer Continental Shelf not then under lease for such mineral upon such royalty, rental, and other terms and conditions as the Secretary may prescribe at the time of offering the area for lease.

Regulations at 30 CFR part 582 carry out these statutory requirements by governing mining operations within the OCS for minerals other than oil, gas, and sulphur and establishing a comprehensive regulatory program for such minerals.

There has been no competitive leasing activity in the OCS for minerals other than oil, gas, and sulphur for many years. Accordingly, BOEM has not generally collected information under this part of its regulations. However, since these are regulatory requirements, the potential exists for information to be collected. Therefore, we are renewing OMB approval for this information collection.

We will use the information required by 30 CFR part 582 to determine if lessees are complying with the regulations for mining minerals other than oil, gas, and sulphur. BOEM will also use the information to ensure that such operations are conducted in a manner that will result in orderly resource recovery, development, and the protection of the human, marine, and coastal environments and for technical and environmental evaluations which provide a basis for BOEM to make informed decisions to approve, disapprove, or require modification of the proposed activities.

We protect proprietary information according to the Freedom of Information Act (5 U.S.C. 552) and the Department's implementing regulations (43 CFR part 2), 30 CFR 582.5 and 582.6, and applicable sections of 30 CFR parts 580 and 581. No items of a sensitive nature are collected. Responses are mandatory.

Frequency: Monthly; quarterly; on occasion.

Estimated Number and Description of Respondents: As there are no active respondents, we estimated the potential annual number of respondents to be one. Potential respondents are OCS lessees.

Estimated Reporting and Recordkeeping Hour Burden: We expect the burden estimate for the renewal will be 212 hours. The following table details the individual BOEM components and respective hour burden estimates of this ICR. In calculating the burdens, we assumed that respondents perform certain requirements in the normal course of their activities. We consider these to be usual and customary and took that into account in estimating the burden.

Burden Table
Citation 30 CFR 582 | Reporting or recordkeeping requirement | Hour burden | Average number of annual responses | Annual burden hours
Subpart A—General
4; 21(b) | Governors, other Federal/State agencies, lessees, interested parties, and others review and provide comments/recommendations on all plans and environmental information | 10 | 1 | 10
4(b); 12(b)(2); 21; 22; 25; 26; 28 | Submit delineation plan, including environmental information, contingency plan, monitoring program, and various requests for approval referred to throughout; submit modifications and required information | 40 | 1 | 40
4(c); 12(c)(2); 21; 23; 25; 26; 28 | Submit testing plan, including environmental information, contingency plan, monitoring program, and various requests for approval referred to throughout; submit modifications and required information | 40 | 1 | 40
4(d); 12(d)(2); 21; 24; 25; 26; 28 | Submit mining plan, including environmental information, contingency plan, monitoring program, and various requests for approval referred to throughout; submit modifications and required information | 40 | 1 | 40
5 | Request non-disclosure of G&G info; provide consent; demonstrate loss of competitive position | 10 | 1 | 10
6 | Governors of adjacent States request proprietary data, samples, etc., and disclosure agreement with BOEM | 10 | 1 | 10
7 | Governor of affected State initiates negotiations on jurisdictional controversy, etc., and enters agreement with BOEM | 10 | 1 | 10
Subtotal |  |  | 7 Responses | 160 Hours
Subpart B—Jurisdiction and Responsibilities of Director
11(c); 20(h); 30 | Apply for right-of-use and easement; submit confirmations, demonstrations, and notifications | 30 | 1 | 30
11(d) | Request consolidation/splitting of two or more OCS mineral leases or portions | 1 | 1 | 1
20(h) | Request approval of operations or departure from operating requirements | Burden included with applicable plans |  | 0
14 | Submit response copy of form BOEM-1832 indicating date violations (INCs) corrected | 2 | 1 | 2
Subtotal |  |  | 3 Responses | 33 Hours
Subpart C—Obligations and Responsibilities of Lessees
20(a), (g); 29(i) | Make available all mineral resource or environmental data and information; submit reports and maintain records, as specified | Burden included with individual reporting requirements below |  | 0
20(b) thru (e) | Submit designation of payor, operator, or local representative; submit changes, terminations, notifications | 1 | 1 | 1
21(d) | Notify BOEM of preliminary activities | 1 | 1 | 1
29(a) | Submit monthly report of minerals produced; request extension | 1 | 1 | 1
29(b), (c) | Submit quarterly status and final report on exploration and/or testing activities | 5 | 1 | 5
29(d) | Submit results of environmental monitoring activities | 5 | 1 | 5
29(e) | Submit marked and certified maps annually or as required | 1 | 1 | 1
29(f) | Maintain rock, minerals, and core samples for 5 years and make available upon request | 1 | 1 | 1
29(g) | Maintain original data and information and navigation tapes as long as lease is in effect and make available upon request | 1 | 1 | 1
29(h) | Maintain hard mineral records and make available upon request | 1 | 1 | 1
Subtotal |  |  | 9 Responses | 17 Hours
Subpart D—Payments
40 | Submit surety, personal bond, or approved alternative | 2 | 1 Response | 2 Hours
Subpart E—Appeals
50; 15 | File an appeal | Burden exempt under 5 CFR 1320.4(a)(2), (c) |  | 0
Total Burden |  |  | 20 Responses | 212 Hours

Estimated Reporting and Recordkeeping “Non-Hour Cost” Burden: There are no non-hour cost burdens associated with this collection.

Public Disclosure Statement: The PRA (44 U.S.C. 3501, et seq.) provides that an agency may not conduct or sponsor a collection of information unless it displays a currently valid OMB control number.

Comments: We invite comments concerning this information collection on:

• Whether or not the collection of information is necessary, including whether or not the information will have practical utility;

• the accuracy of the burden estimates;

• ways to enhance the quality, utility, and clarity of the information to be collected; and

• ways to minimize the burden on respondents.

As required at 5 CFR 1320.8(d), BOEM published a 60-day notice in the Federal Register (82 FR 18005, April 14, 2017) announcing that we would submit this ICR to OMB for approval. The notice provided the required 60-day comment period. We received no comments.

Public Availability of Comments: Our practice is to make comments, including names and home addresses of respondents, available for public review. Individual respondents may request that we withhold such information, which we will honor to the extent allowable by law. If you wish us to withhold this information, you must state this prominently at the beginning of your comment. However, we will make all submissions from organizations or businesses, and from individuals identifying themselves as representatives or officials of organizations or businesses, available for public inspection in their entirety.

Authorities: The authorities for this action are the OCS Lands Act, as amended (43 U.S.C. 1334 and 43 U.S.C. 1337(k)(1)), and the Paperwork Reduction Act of 1995 (44 U.S.C. 3501, et. seq.).

Dated: June 13, 2017.
Deanna Meyer-Pietruszka,
Chief, Office of Policy, Regulations, and Analysis.

[FR Doc. 2017-12982 Filed 6-21-17; 8:45 am]

BILLING CODE 4310-MR-P